DEPARTMENT OF THE INTERIOR

National Park Service

Availability of Maurice National Scenic and Recreational River Draft Comprehensive Management Plan and Environmental Impact Statement

AGENCY: National Park Service, Interior.

ACTION: Notice of availability of Maurice National Scenic and Recreational River Draft Comprehensive Management Plan and Environmental Impact Statement.

SUMMARY: The National Park Service, in cooperation with its partners, has prepared and released a draft Comprehensive Management Plan and Environmental Impact Statement for the management, protection, and use of the Maurice National Scenic and Recreational River in New Jersey. The public is invited to review and comment on the draft plan. Comments will be accepted for 45 days from the date of this notice. Please be advised that, if requested, the National Park Service is required to supply the names and addresses of individuals providing comments. For more information about this document: contact Mary Vavra, National Park Service Program Manager by letter or telephone.

FOR FURTHER INFORMATION CONTACT: Mary Vavra, Program Manager, National Park Service, Philadelphia Support Office, 200 Chestnut Street, 3rd Floor, Philadelphia, PA 19106, (215) 597-9175.

Dated: May 1, 2000.
Len Emerson,
Assistant Regional Director, Human Resources, Acting Regional Director; Northeast Region, National Park Service.

[FR Doc. 00-12315 Filed 3-15-00; 8:45 am]

BILLING CODE 4310-70-M